Proclamation 10284 of October 8, 2021

International Day of the Girl, 2021

By the President of the United States of America

A Proclamation

The growth and development of the world's economies, institutions, and nations rest on all girls having equal rights and opportunities. Ensuring that girls can reach their full potential is not just a moral imperative, it is a strategic one as well. The status of women and the peace and prosperity of nations are inextricably linked. When girls do well, we all do well. When we invest in the education of girls, our communities are healthier and our economies are stronger. When we empower girls to lead, our peace processes, global health and humanitarian efforts, and climate negotiations are more sustainable and resilient. When we invest in women- and girl-led movements, our democracies grow more stable and more prosperous. On this International Day of the Girl, we commit ourselves to ensuring opportunity and equality for all girls.

Girls across our Nation and the world face gender bias and discrimination, subjecting them to harmful circumstances that impede their safety, stability, education, and opportunity. This has been especially true during the COVID-19 pandemic, which has upended the lives of too many girls around the globe, exacerbating disparities and underscoring what we have long known: that during times of crisis, girls—especially girls of color and those from underserved and low-income communities—face disproportionate challenges.

In the United States, girls contend with entrenched barriers to achieving gender equity. Despite Title IX protections, girls continue to lack equal opportunity and resources in education and leadership, and gender stereotypes continue to inhibit their participation in science, technology, engineering, and mathematics (STEM) education, undermining their access to the stable and good-paying jobs. Girls' education is further undermined by the threat of sexual assault, harassment, and other forms of gender-based violence, with 1-in-4 young women on college campuses today facing sexual assault. Girls of color and girls from underserved communities contend with additional longstanding disparities. Black girls experience disproportionate rates of school discipline and are overrepresented in our juvenile justice system. LGBTQI+ girls face elevated rates of gender-based violence and are subject to bullying, harassment, and online abuse. Transgender girls are increasingly excluded from sports and equal access to school facilities. Girls with disabilities face inequitable access to education.

Globally, girls confront persistent and structural barriers that impede their full participation. Even before the COVID-19 pandemic, 130 million girls across the world were not in school, and today, there are an additional 11 million girls who have been forced to stop their education, undermining future economic growth, health, and development. An estimated 33,000 girls are made to enter into child, early, or forced marriages every day, fueling an intergenerational cycle of poverty that is difficult to break. Girls face a range of other challenges, from harmful practices like female genital cutting to unintended pregnancy and from discriminatory laws and exclusion from civic and political processes to concerns about safety, harassment, and sexual assault. Too often, social norms that ascribe low value to girls' lives functionally limit their rights and opportunities across public and private life.

The COVID-19 pandemic has worsened preexisting public health, economic, political, and caregiving crises, which disproportionately impact girls worldwide. As health systems become more strained, girls face increased barriers to accessing basic health care. In many parts of the world, those who are part of vulnerable and marginalized communities continue to face challenges in accessing routine childhood immunizations, preventative screenings, and sexual and reproductive health services. As schools closed, caregiving burdens fell on girls across the globe, and girls were often significantly less likely to have access to the devices required for virtual schooling due to a global digital gender divide. Many countries have also reported a rise in rates of gender-based violence, both offline and online, including against female journalists, activists, and leaders who are being further excluded from critical rebuilding efforts. The mental health of girls—who already disproportionately face high incidence of reported anxiety and other mental health issues—is also suffering. We have also seen an increase in visits to emergency rooms of teenage girls across our Nation for reasons related to self-harm, including suicide attempts. An essential part of building back better must be elevating the status of girls as we address these shared crises.

On this International Day of the Girl, our Nation stands firmly and proudly in our commitment to protecting and advancing the rights of girls, in all their diversity, both at home and abroad. That is why, earlier this year, I signed an Executive Order to establish the White House Gender Policy Council and ensure a whole-of-government approach to advancing gender equity and equality. This month my Administration will release the first-ever United States Government National Gender Strategy, outlining our vision and our priorities to advance equal opportunity for people of all genders. From combating gender discrimination in education and preventing gender-based violence offline and online, to increasing pathways to STEM and promoting gender parity and diversity in leadership and democratic processes, my Administration will work to empower girls in every facet of life. And by recognizing the constraints that gender-based violence places on the lives of millions of girls around the world, we will also develop the first-ever United States National Action Plan on Gender-Based Violence and update the United States' Strategy to Prevent and Respond to Gender-Based Violence Globally.

Our vision for the future is one where every girl can live free from violence, discrimination, and bias. We are committed to a future where girls can dream boldly and lead ambitiously as heads of families, communities, corporations, and governments; where their voices are not only heard, but amplified; and where they can lead the charge against 21st century challenges, drive innovation, and compete and succeed in the workforce of the future.

NOW, THEREFORE, I, JOSEPH R. BIDEN JR., President of the United States of America, by virtue of the authority vested in me by the Constitution and the laws of the United States, do hereby proclaim October 11, 2021, as International Day of the Girl. I call upon the people of the United States to observe this day with programs, ceremonies, and activities that advance equality and opportunity for girls everywhere.

IN WITNESS WHEREOF, I have hereunto set my hand this eighth day of October, in the year of our Lord two thousand twenty-one, and of the Independence of the United States of America the two hundred and forty-sixth.

[FR Doc. 2021-22584

Filed 10-13-21; 11:15 am]

Billing code 3395-F2-P